DEPARTMENT OF TRANSPORTATION

Federal Aviation Administration

14 CFR Part 71

[Docket FAA 2005-20417; Airspace Docket 05-ANM-06]

RIN 2120-AA66

Amendment to Class E Airspace; Wenatchee, WA

AGENCY: Federal Aviation Administration (FAA), DOT.

ACTION: Final rule; correction.

SUMMARY: This action corrects an error in the effective date and the legal description listed in a final rule published in the Federal Register on December 5, 2005, Docket No. FAA-2005-20417, Airspace Docket No. 05-ANM-06.

DATES: Effective Date: The effective date for the final rule published at 70 FR 72371, December 5, 2005, is corrected to 0901 UTC, April 13, 2006.

FOR FURTHER INFORMATION CONTACT: Ed Haeseker, Federal Aviation Administration, Western En Route and Oceanic Area Office, Airspace Branch, 1601 Lind Avenue, S.W., Renton, WA, 98055-4056; telephone (425) 227-2527.

SUPPLEMENTARY INFORMATION:

History

On December 5, 2005, a final rule was published in the Federal Register (70 FR 72371), Docket No. FAA-2005-20417, Airspace Docket No. 05-ANM-06. This rule established an effective date of January 19, 2006. The effective date of this rule should have been April 13, 2006, to coincide with the en route charting dates. Also, the geographic coordinates of the legal description were incorrect. This action corrects those errors.

Correction to Final Rule

Accordingly, pursuant to the authority delegated to me, the effective date is changed to April 13, 2006, and the legal description as published in the Federal Register on December 5, 2005 (70 FR 72371), is corrected as follows:

§ 71.1 [Amended]

* * * * *

ANM WA E5 Wenatchee, WA [Corrected]

Wenatchee/Pangborn Municipal Airport, WA

(Lat. 47°23′54″ N., long. 120°12′22″ W.)

Wenatchee VOR/DME

(Lat. 47°23′59″ N., long. 120°12′39″ W.)

That airspace extending upward from 700 feet above the surface within 4.3 miles south and 9.5 miles north of the 299° radial from the Wenatchee VOR/DME to 17 miles northwest of the VOR/DME, and within 4.3 miles southwest and 8 miles northeast of the 124° radial from the VOR/DME to 21 miles southeast of the VOR/DME, excluding that portion within the Moses Lake, Grant County, and Quincy Airport, WA Class E airspace areas; that airspace extending upward from 1,200 feet above the surface bounded by a line beginning at: Lat. 47°36′00″ N., long. 120°43′00″ W.; to lat. 47°36′00″ N., long. 119°39′30″ W.; to lat. 47°07′00″ N., long. 119°39′30″ W.; to lat. 47°07′00″ N., long. 120°43′00″ W.; to the point of beginning. Excluding that portion within the Moses Lake, Grant County Airport, WA, Class E airspace area.

* * * * *

Issued in Seattle, Washington, on January 12, 2006.
John Warner,
Acting Area Director, Western En Route and Oceanic Operations.

[FR Doc. 06-491 Filed 1-18-06; 8:45 am]

BILLING CODE 4910-13-M